DEPARTMENT OF HEALTH AND HUMAN SERVICES

National Institutes of Health

National Institute of Mental Health; Notice of Meeting

Pursuant to section 10(a) of the Federal Advisory Committee Act, as amended (5 U.S.C. App.), notice is hereby given of an Interagency Autism Coordinating Committee (IACC) meeting.

The purpose of the IACC meeting is to welcome new members of the IACC and to discuss committee activities including the 2009 Summary of Advances and the 2009 Portfolio Analysis. In addition, there will be several presentations on a variety of topics: the Autism Treatment Network, changes in the DSM-V related to autism, stem cell research, non-verbal autism and comparative effectiveness research. The meeting will be open to the public and will be accessible by webcast and conference call.

Name of Committee: Interagency Autism Coordinating Committee (IACC).

Type of meeting: Open meeting.

Date: April 30, 2010.

Time: 10 a.m. to 5 p.m.* Eastern Time—* Approximate end time.

Agenda: To welcome new members of the IACC and to discuss topics including the 2009 Summary of Advances, the 2009 Portfolio Analysis, the Autism Treatment Network, autism in the DSM-V, stem cell research, non-verbal autism and comparative effectiveness research.

Place: Ronald Reagan Building and International Trade Center, the Rotunda Room, 1300 Pennsylvania Ave., NW., Washington, DC 20004.

Webcast Live: http://videocast.nih.gov/.

Conference Call Access: Dial: 1-888-577-8995; Access code: 1991506.

Cost: The meeting is free and open to the public.

Registration: http://www.acclaroresearch.com/oarc/4-30-10_IACC. Pre-registration is recommended to expedite check-in. Seating in the meeting room is limited to room capacity and on a first come, first served basis.

Deadlines: Notification of Intent to present Oral Comments: April 22nd by 5 pm. ET. Submission of written/electronic copy of oral presentation: April 23rd by 5 p.m. ET. Submission of written comments: April 26th by 5 p.m. ET.

Access: Metro accessible—Federal Triangle Metro (Orange/Blue Line).

Contact Person: Ms. Lina Perez, Office of Autism Research Coordination, National Institute of Mental Health, NIH, 6001 Executive Boulevard, Room 8200, Bethesda, MD 20892-9669, Phone: 301-443-6040, E-mail: IACCPublicInquiries@mail.nih.gov.

Please Note: Any member of the public interested in presenting oral comments to the Committee must notify the Contact Person listed on this notice by 5 p.m. ET on Thursday, April 22, 2010 with their request to present oral comments at the meeting. Interested individuals and representatives of organizations must submit a written/electronic copy of the oral presentation/statement including a brief description of the organization represented (where applicable) by 5 p.m. ET on Friday, April 23, 2010. Statements submitted will become a part of the public record. Only one representative of a given organization will be allowed to present oral comments and presentations will be limited to three to five minutes per speaker, depending on number of speakers to be accommodated within the allotted time. Speakers will be assigned a time to speak in the order of the date and time when their request to speak is received, along with the required submission of the written/electronic statement by the specified deadline.

In addition, any interested person may submit written comments to the IACC prior to the meeting by sending the comments to the Contact Person listed on this notice by 5 p.m. ET Monday, April 26, 2010. The comments should include the name and when applicable, the business or professional affiliation of the interested person. All written statements received by the deadlines for both oral and written public comments will be provided to the IACC for their consideration and will become part of the public record.

The meeting will be open to the public through a conference call phone number and webcast live on the Internet. Members of the public who participate using the conference call phone number will be able to listen to the meeting but will not be heard. If you experience any technical problems with the webcast live or conference call, please e-mail IACCTechSupport@acclaroresearch.com.

Individuals who participate in person or by using these electronic services and who need special assistance, such as captioning of the conference call or other reasonable accommodations, should submit a request to the Contact Person listed on this notice at least 7 days prior to the meeting.

To access the webcast live on the Internet the following computer capabilities are required: (A) Internet Explorer 5.0 or later, Netscape Navigator 6.0 or later or Mozilla Firefox 1.0 or later; (B) Windows® 2000, XP Home, XP Pro, 2003 Server or Vista; (C) Stable 56k, cable modem, ISDN, DSL or better Internet connection; (D) Minimum of Pentium 400 with 256 MB of RAM (Recommended); (E) Java Virtual Machine enabled (Recommended).

As a part of security procedures, attendees should be prepared to present a photo ID at the meeting registration desk during the check-in process. Online pre-registration is recommended. Seating will be limited to the room capacity and seats will be on a first come, first served basis, with expedited check-in for those who are pre-registered. Please note: Online pre-registration will close by 5 p.m. the day before the meeting. After that time, registration will have to be done onsite the day of the meeting.

Meeting schedule subject to change.

Information about the IACC is available on the Web site: http://www.iacc.hhs.gov.

Dated: April 6, 2010.
Jennifer Spaeth,
Director, Office of Federal Advisory Committee Policy.

[FR Doc. 2010-8256 Filed 4-9-10; 8:45 am]

BILLING CODE 4140-01-P